DEPARTMENT OF HEALTH AND HUMAN SERVICES

Administration for Children and Families

45 CFR Parts 1355 and 1356

Request for Public Comment Concerning Regulations for Transferring Children From the Placement and Care Responsibility of a State Title IV-E Agency to a Tribal Title IV-E Agency and Tribal Share of Title IV-E Administration and Training Expenditures

AGENCY: Department of Health and Human Services, Administration for Children and Families, Administration on Children, Youth and Families.

ACTION: Proposed rule; notice of request for public comment and Tribal consultation meetings; withdrawal.

SUMMARY: The Administration on Children, Youth and Families (ACF) intended to publish a request for public comment and Tribal consultation meetings in the Federal Register. The action line of the document published in the Federal Register on January 26, 2009, labeled the document a proposed rule. This document withdraws the January 26, 2009, proposed rule.

DATES: The January 26th, 2009 document is withdrawn as of February 9, 2009.

FOR FURTHER INFORMATION CONTACT: Miranda Lynch, Children's Bureau, 1250 Maryland Ave., SW., 8th Floor, Washington, DC 20024, (202) 205-8138. miranda.lynch@acf.hhs.gov.

SUPPLEMENTARY INFORMATION: ACF is withdrawing a request for public comment and Tribal consultation meetings that appeared in the Federal Register on January 26, 2009. The document provided a written opportunity for comment to all interested persons and notified Tribal leaders of in-person opportunities to consult with the Children's Bureau on the development of interim final rules on the implementation of the tribal plan requirements in section 479B of the Act and other amendments made by the Tribal provisions in section 301 of Public Law 110-351. While the January 26th, 2009 notice is being withdrawn in its entirety at this time, information on future opportunities for Tribal consultation and solicitation of comments regarding the implementation of these provisions will be forthcoming.

Dated: January 29, 2009.
Maiso L. Bryant,
Acting Commissioner, Administration on Children, Youth and Families.

[FR Doc. E9-2236 Filed 2-6-09; 8:45 am]

BILLING CODE 4184-01-P